DEPARTMENT OF THE INTERIOR

Bureau of Indian Affairs

Notice of Intent To Prepare an Environmental Impact Statement for the Proposed Samish Indian Nation Fee-to-Trust Acquisition and Casino Project, Skagit County, WA

AGENCY: Bureau of Indian Affairs, Interior.

ACTION: Notice.

SUMMARY: The Bureau of Indian Affairs (BIA) as lead agency is gathering information necessary for preparing an Environmental Impact Statement (EIS) in connection with the Samish Indian Nation's (Tribe's) application for a proposed 11.41-acre fee-to-trust transfer and casino project to be located in Anacortes, Washington. The purpose of the proposed action is to improve the economic status of the tribal government so it can better provide housing, health care, education, cultural programs, and other services to its members. This notice also announces a public scoping meeting to identify potential issues and content for inclusion in the EIS.

DATES: Written comments on the scope of the EIS will be accepted until September 16, 2011. The public scoping meeting will be held on September 14, 2011, from 6 p.m. to 9 p.m. PDT, or until the last comment is heard.

ADDRESSES: You may mail or hand carry written comments to Mr. Stanley Speaks, Northwest Regional Director, Bureau of Indian Affairs, Northwest Region, 911 NE 11th Avenue, Portland, Oregon 97232. Please include your name, return caption, address and “DEIS Scoping Comments, Samish Indian Nation Casino Project” on the first page of your written comments. The public scoping meeting will be held at Fidalgo Bay Resort Community Center, 4701 Fidalgo Bay Road, Anacortes, WA 98221.

FOR FURTHER INFORMATION CONTACT: Dr. B.J. Howerton, Environmental Protection Specialist, BIA Northwest Region, (503) 231-6749.

SUPPLEMENTARY INFORMATION: The proposed action would transfer approximately 11.41 acres of land from fee to trust status. After the transfer, the Tribe would develop a casino, parking, and other supporting facilities. The property is located within the incorporated boundaries of the City of Anacortes, Washington, southeast of the intersection of Thompson Road and State Route 20. Areas of environmental concern identified for analysis in the EIS include land resources, water resources, air quality, noise, biological resources, cultural resources, resource use patterns, traffic and transportation, public health/environmental hazards, public services and utilities, socioeconomics, environmental justice, and visual resources/aesthetics. Alternatives identified for analysis include the proposed action, a no-action alternative, a reduced-intensity development alternative, a non-gaming alternative, and an alternate site location alternative. The range of issues and alternatives is open to revision based on comments received in response to this notice. Additional information, including a map of the project site, is available by contacting the person listed in the FOR FURTHER INFORMATION CONTACT section of this notice. Other related approvals may be required to implement the project, including approval of the Tribe's fee-to-trust application, determination of the site's eligibility for gaming, compliance with the Clean Water Act, and local service agreements. To the extent applicable, the EIS will identify and evaluate issues related to these approvals.

Public Comment Availability

Comments, including names and addresses of respondents, will be available for public review at the address shown in the ADDRESSES section, during regular business hours, 8 a.m. to 4:30 p.m., Monday through Friday, except holidays. Before including your address, phone number, e-mail address, or other personal identifying information in your comment, you should be aware that your entire comment—including your personal identifying information—may be made publicly available at any time. While you can ask in your comment that your personal identifying information be withheld from public review, we cannot guarantee that this will occur.

Authority

This notice is published in accordance with sections 1503.1 of the Council on Environmental Quality Regulations (40 CFR parts 1500 through 1508) and section 46.305 of the Department of the Interior Regulations (43 CFR part 46), implementing the procedural requirements of NEPA, as amended (42 U.S.C. 4321 et seq.), and is in the exercise of authority delegated to the Assistant Secretary—Indian Affairs, by part 209 of the Departmental Manual.

Dated: July 29, 2011.
Larry Echo Hawk,
Assistant Secretary—Indian Affairs.

[FR Doc. 2011-20476 Filed 8-10-11; 8:45 am]

BILLING CODE 4310-W7-P